DEPARTMENT OF COMMERCE

International Trade Administration

[A-588-804, A-412-801]

Ball Bearings and Parts Thereof From Japan and the United Kingdom: Notice of Reinstatement of Antidumping Duty Orders, Resumption of Administrative Reviews, and Advance Notification of Sunset Reviews

AGENCY: Enforcement and Compliance, formerly Import Administration, International Trade Administration, Department of Commerce.

SUMMARY: On July 15, 2011, pursuant to a decision of the Court of International Trade (CIT) that affirmed the International Trade Commission's (ITC's) negative injury determinations on remand in the second sunset review of the antidumping duty orders on bearings from Japan and the United Kingdom, the Department of Commerce (the Department) revoked the Orders.¹ On May 16, 2013, the United States Court of Appeals for the Federal Circuit (Federal Circuit) reversed the CIT's decision and ordered the CIT to reinstate the ITC's affirmative material injury determinations.² Subsequently, on November 18, 2013, the CIT issued final judgment reinstating the ITC's affirmative injury determinations.³ Therefore, the Department is now reinstating the Orders. Additionally, the Department is resuming the administrative reviews of these orders for the periods May 1, 2009, through April 30, 2010, and May 1, 2010, through April 30, 2011.

¹ See Antidumping Duty Orders: Ball Bearings, Cylindrical Roller Bearings, and Spherical Plain Bearings, and Parts Thereof From Japan, 54 FR 20904 (May 15, 1989), and Antidumping Duty Orders and Amendments to the Final Determinations of Sales at Less Than Fair Value: Ball Bearings, and Cylindrical Roller Bearings and Parts Thereof From the United Kingdom, 54 FR 20910 (May 15, 1989) (collectively, Orders).

² NSK Corp v. United States International Trade Commission, 716 F.3d 1352 (Fed. Cir. 2013) (NSK May 2013).

³ NSK Corp. v. United States International Trade Commission, Court No. 06-334, Slip Op. 2013-143 (CIT November 18, 2013) (NSK November 2013).

DATES: Effective Date: November 29, 2013.

FOR FURTHER INFORMATION CONTACT: Thomas Schauer or Minoo Hatten, AD/CVD Operations, Office I, Enforcement and Compliance, International Trade Administration, U.S. Department of Commerce, 14th Street and Constitution Avenue NW., Washington, DC 20230; telephone: (202) 482-0410 or (202) 482-1690, respectively.

SUPPLEMENTARY INFORMATION:

Background

On May 15, 1989, the Department published the Orders in the Federal Register.⁴ Pursuant to section 751(c) of the Tariff Act of 1930, as amended (the Act), the Department initiated and the ITC instituted the second sunset reviews of the Orders on June 1, 2005.⁵ As a result of its sunset reviews, the Department found that revocation of the Orders would be likely to lead to the continuation or recurrence of dumping and notified the ITC of the magnitude of the margins likely to prevail were the Orders to be revoked.⁶

⁴ See Orders.

⁵ See Initiation of Five-year (“Sunset”) Reviews, 70 FR 31423 (June 1, 2005), and Certain Bearings From China, France, Germany, Italy, Japan, Singapore, and the United Kingdom, 70 FR 31531 (June 1, 2005); see also 19 CFR 351.218.

⁶ See Antifriction Bearings and Parts Thereof from France, Germany, Italy, and the United Kingdom; Five-Year Sunset Reviews of Antidumping Duty Orders; Final Results, 70 FR 58183 (October 5, 2005), Ball Bearings and Parts Thereof From Japan and Singapore; Five-year Sunset Reviews of Antidumping Duty Orders; Final Results, 71 FR 26321 (May 4, 2006), and Ball Bearings and Parts Thereof From Japan; Five-Year Sunset Review of Antidumping Duty Order: Amended Final Results, 71 FR 30378 (May 26, 2006).

On August 31, 2006, the ITC published its determination that, pursuant to section 751(c) of the Act, revocation of the Orders, among others, would be likely to lead to the continuation or recurrence of material injury to an industry in the United States within a reasonably foreseeable time.⁷ NSK Corporation, NSK Ltd., and NSK Europe Ltd. and JTEKT Corporation and Koyo Corporation of U.S.A. filed appeals of this determination with the CIT.

⁷ See Certain Bearings From China, France, Germany, Italy, Japan, Singapore, and the United Kingdom, 71 FR 51850 (August 31, 2006), and ITC Publication 3876 (August 2006) entitled Certain Bearings from China, France, Germany, Italy, Japan, Singapore, and the United Kingdom, Investigation Nos. 731-TA-344, 391-A, 392-A and C, 393-A, 394-A, 396, and 399-A (Second Review).

In its third and fourth remand determinations,⁸ the ITC found that revocation of the Orders would not be likely to lead to the continuation or recurrence of material injury to an industry in the United States within a reasonably foreseeable time. On April 20, 2011, the CIT affirmed the ITC's fourth remand and entered judgment in the case.⁹ The CIT stayed the effect of its judgment temporarily but, lifted the stay on May 13, 2011.¹⁰ On May 17, 2011, the Federal Circuit issued a temporary stay of the judgment.¹¹

⁸ See ITC Publication 4194, Ball Bearings and Parts Thereof From Japan and the United Kingdom, Investigation Nos. 731-TA-394A and 399A (Second Review) (Third Remand) (August 2010), and ITC Publication 4223, Certain Ball Bearings and Parts Thereof from Japan and the United Kingdom, Investigation Nos. 394-A and 399-A (Second Review) (Fourth Remand) (March 2011).

⁹ See NSK v. United States, 774 F. Supp. 2d 1296 (CIT 2011) (NSK).

¹⁰ See NSK Corp. v. United States, 774 F. Supp. 2d 1300 (CIT 2011).

¹¹ See NSK Corp. v. United States, 422 Fed. Appx. 885 (Fed. Cir. 2011).

On June 17, 2011, in response to the CIT's entry of judgment in NSK, the Department published a notice of a court decision not in harmony with a Department determination, thereby suspending liquidation of all entries of subject merchandise entered, or withdrawn from warehouse, for consumption on or after July 11, 2005, that remained unliquidated, and not deemed liquidated, as of April 30, 2011.¹²

¹² See Ball Bearings and Parts Thereof From Japan and the United Kingdom: Notice of Court Decision Not in Harmony with Continuation of Antidumping Duty Orders, 76 FR 35401 (June 17, 2011) (Timken Notice).

On July 6, 2011, the Federal Circuit's stay lifted.¹³ Therefore, pursuant to the CIT's judgment in NSK, the Department revoked the Orders.¹⁴ The CIT's NSK decision was appealed to the Federal Circuit.

¹³ See NSK v. United States, 431 Fed. Appx. 910 (Fed. Cir. 2011).

¹⁴ See Ball Bearings and Parts Thereof From Japan and the United Kingdom: Revocation of Antidumping Duty Orders, 76 FR 41761 (July 15, 2011) (Revocation Notice).

On May 16, 2013, the Federal Circuit issued a decision reversing and vacating the CIT's decision in NSK, ordered the CIT to vacate the ITC's negative determination in the Third Remand and Fourth Remand, and ordered the CIT to reinstate the ITC's affirmative determination in ITC Publication 4131, Ball Bearings and Parts Thereof From Japan and the United Kingdom, Investigation Nos. 731-TA-394A and 399A (Second Review) (Second Remand) (January 2010).¹⁵ On November 18, 2013, the CIT reinstated the ITC's affirmative determination.¹⁶

¹⁵ See NSK May 2013.

¹⁶ See NSK November 2013.

Therefore, pursuant to the CIT's November 18, 2013, order reinstating the ITC's affirmative material injury determination, the Department is reinstating the Orders.

Scope of the Orders

The products covered by the Orders are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written descriptions of the scope of the Orders remain dispositive.

The size or precision grade of a bearing does not influence whether the bearing is covered by one of the Orders. The Orders cover all the subject bearings and parts thereof (inner race, outer race, cage, rollers, balls, seals, shields, etc.) outlined above with certain limitations. With regard to finished parts, all such parts are included in the scope of the Orders. For unfinished parts, such parts are included if they have been heat-treated or if heat treatment is not required to be performed on the part. Thus, the only unfinished parts that are not covered by the Orders are those that will be subject to heat treatment after importation. The ultimate application of a bearing also does not influence whether the bearing is covered by the Orders. Bearings designed for highly specialized applications are not excluded. Any of the subject bearings, regardless of whether they may ultimately be utilized in aircraft, automobiles, or other equipment, are within the scope of the Orders.

Reinstatement of Antidumping Duty Orders

Pursuant to the CIT's November 18, 2013, order reinstating the ITC's determination that the revocation of the Orders would be likely to lead to the continuation or recurrence of material injury within a reasonably foreseeable time, the Department is reinstating the Orders consistent with section 751(d) of the Act. As a result of this reinstatement, the Department will resume discontinued administrative reviews of the Orders and intends to initiate new administrative reviews of the Orders, if requested.

Furthermore, the Department will instruct U.S. Customs and Border Protection (CBP) to resume the collection of cash deposits for estimated antidumping duties at the rates in effect on July 15, 2011, the date on which the collection of cash deposits was discontinued.¹⁷

¹⁷ See Revocation Notice, 76 FR at 41762-63. We instructed CBP to continue the suspension of liquidation of entries pending a “final and conclusive” court decision. Id.

Resumption of Administrative Reviews

As a result of the Revocation Notice, the Department discontinued all unfinished administrative reviews of the Orders.¹⁸ The unfinished administrative reviews covered the periods May 1, 2009, through April 30, 2010, and May 1, 2010, through April 30, 2011.

¹⁸ See id., 76 FR at 41762.

We are hereby resuming the administrative reviews covering the period May 1, 2009, through April 30, 2010. At the time the Orders were revoked, we had issued the preliminary results of review for the administrative reviews covering the period May 1, 2009, through April 30, 2010.¹⁹ Section 751(a)(3)(A) of the Act instructs that “The administering authority shall make . . . a final determination under paragraph (1) within 120 days after the date on which the preliminary determination is published.” Accordingly, we intend to issue our final results of reviews for the period May 1, 2009, through April 30, 2010, no later than 120 days after publication of this notice.

¹⁹ See Ball Bearings and Parts Thereof From France, Germany, Italy, Japan, and the United Kingdom: Preliminary Results of Antidumping Administrative and Changed-Circumstances Reviews, 76 FR 22372 (April 21, 2011). The reviews involving ball bearings and parts thereof from France, Germany, and Italy were completed on August 24, 2011. See Ball Bearings and Parts Thereof From France, Germany, and Italy: Final Results of Antidumping Administrative and Changed Circumstances Reviews, 76 FR 52937 (August 24, 2011).

We are also hereby resuming the administrative reviews covering the period May 1, 2010 through April 30, 2011. At the time the Orders were revoked, we had just initiated the administrative reviews covering the period May 1, 2010, through April 30, 2011.²⁰ Section 751(a)(3)(A) of the Act instructs that “The administering authority shall make a preliminary determination under subparagraph (A), (B), or (C) of paragraph (1) within 245 days after the last day of the month in which occurs the anniversary of the date of publication of the order, finding, or suspension agreement for which the review under paragraph (1) is requested.” Accordingly, we intend to issue our preliminary results of reviews for the period May 1, 2010, through April 30, 2011, no later than 245 days after publication of this notice. The deadline for withdrawing requests for review covering the period May 1, 2010 through April 30, 2011 will be 90 days after the date of publication of this notice.

²⁰ See Initiation of Antidumping and Countervailing Duty Administrative Reviews and Request for Revocation in Part, 76 FR 37781 (June 28, 2011). The reviews involving ball bearings and parts thereof from France, Germany, and Italy were completed on December 10, 2012. See Ball Bearings and Parts Thereof From France, Germany, and Italy: Final Results of Antidumping Administrative Reviews; 2010-2011, 77 FR 73415 (December 10, 2012).

Furthermore, Antidumping Proceedings: Calculation of the Weighted-Average Dumping Margin and Assessment Rate in Certain Antidumping Duty Proceedings; Final Modification, 77 FR 8101 (February 14, 2012) (Final Modification), applies to these administrative reviews.²¹

²¹ See Final Modification, 77 FR at 8113.

Subsequent Administrative Reviews

Each year during the anniversary month of the publication of an antidumping or countervailing duty order, finding, or suspended investigation, an interested party, as defined in section 771(9) of the Act, may request, in accordance with 19 CFR 351.213, that the Department conduct an administrative review of that antidumping or countervailing duty order, finding, or suspended investigation.

Subsequent to the Revocation Notice, two anniversary months for these orders have passed (May 2012 and May 2013). Therefore, we intend to provide interested parties an opportunity to request administrative reviews of these Orders. We intend to provide interested parties with this opportunity simultaneously with the next anniversary month for these Orders (May 2014). If any reviews are requested, we intend to conduct the reviews simultaneously.

Advance Notification of Sunset Reviews

Every five years, pursuant to section 751(c) of the Act, the Department and the ITC automatically initiate and conduct a review to determine whether revocation of a countervailing or antidumping duty order or termination of an investigation suspended under section 704 or 734 of the Act would be likely to lead to continuation or recurrence of dumping or a countervailable subsidy (as the case may be) and of material injury. The third sunset reviews of these orders were scheduled for initiation in August 2011 but were obviated by the Revocation Notice. This notice constitutes advance notification for the sunset reviews of these orders which we intend to initiate on January 2, 2014.²²

²² For information relevant to the Department's conduct of sunset reviews, see, e.g., Antidumping or Countervailing Duty Order, Finding, or Suspended Investigation; Advance Notification of Sunset Reviews, 78 FR 60252 (October 1, 2013).

This notice is published consistent with section 777(i) of the Act.

Dated: December 9, 2013.
Paul Piquado,
Assistant Secretary for Enforcement and Compliance.

[FR Doc. 2013-29839 Filed 12-13-13; 8:45 am]

BILLING CODE 3510-DS-P